DEPARTMENT OF THE INTERIOR

National Indian Gaming Commission

25 CFR Parts 502, 514, 531, 533, 535, 537, 539, 556, 558, 571, and 573

RIN 3141-0001

Amendments to Various National Indian Gaming Commission Regulations

AGENCY: National Indian Gaming Commission.

ACTION: Final rule; delay of effective date.

SUMMARY: The National Indian Gaming Commission (“NIGC”) announces the extension of the effective date on the final rule concerning various amendments to the National Indian Gaming Commission regulations. The final rule was published in the Federal Register on July 27, 2009. The Commission has changed the effective date to December 31, 2009, in order to extend the transition time.

DATES: Effective Date: The effective date for the final rule published July 27, 2009, at 74 FR 36926, is delayed from August 26, 2009, until December 31, 2009.

FOR FURTHER INFORMATION CONTACT: Rebecca Chapman, Staff Attorney, Office of General Counsel, at (202) 632-7003; fax (202) 632-7066 (not toll-free numbers).

SUPPLEMENTARY INFORMATION: Congress established the National Indian Gaming Commission under the Indian Gaming Regulatory Act of 1988 (25 U.S.C. 2701-21) (“IGRA”) to regulate gaming on Indian lands. The NIGC issued a final rule updating various NIGC regulations and streamlining procedures, which was published in the Federal Register on July 27, 2009 (74 FR 36926). The final rule provided an effective date of August 26, 2009. The NIGC is extending the effective date to December 31, 2009.

Philip N. Hogen,
Chairman.
Norman H. DesRosiers,
Vice Chairman.

[FR Doc. E9-20511 Filed 8-24-09; 8:45 am]

BILLING CODE 7565-01-P